DEPARTMENT OF ENERGY

Federal Energy Regulatory Commission

[Project No. 2266-102]

Nevada Irrigation District; Notice of Teleconference

a. Project Name and Number: Yuba-Bear Hydroelectric Project No. 2266.

b. Applicant: Nevada Irrigation District.

c. Date and Time of Teleconference: September 25, 2018, 10:00 a.m. Pacific Daylight Time (1:00 p.m. Eastern Daylight Time).

d. FERC Contact: Alan Mitchnick at (202) 502-6074, alan.mitchnick@ferc.gov.

e. Purpose of Meeting: The Federal Energy Regulatory Commission staff will participate in a meeting with the U.S. Fish and Wildlife Service and the Nevada Irrigation District to discuss conservation measures needed to protect species listed under the Endangered Species Act that may be affected by continued operation of the existing Yuba-Bear Hydroelectric Project. The primary species to be discussed include the California red-legged frog and Sierra Nevada yellow-legged frog.

f. All local, state, and federal agencies, Indian tribes, and other interested parties are invited to attend by phone. Please call Alan Mitchnick at (202) 502-6074, or email alan.mitchnick@ferc.gov by September 18, 2018, to RSVP and to receive specific instructions on how to participate.

Dated: September 4, 2018.
Kimberly D. Bose,
Secretary.

[FR Doc. 2018-19551 Filed 9-7-18; 8:45 am]

BILLING CODE 6717-01-P